DEPARTMENT OF HEALTH AND HUMAN SERVICES

Centers for Disease Control and Prevention

[Program Announcement 04054]

Youth Violence Prevention Through Community-Level Change; Notice of Availability of Funds-Amendment

A notice announcing the availability of fiscal year (FY) 2004 funds for Youth Violence Prevention Through Community-Level Change was published in the Federal Register on December 2, 2003, Volume 68, Number 231, pages 67450-67455. The notice is amended as follows: On page 67453, Column 2, Section “IV. Application and Submission Information,” under 5. Funding Restrictions, at the end of the paragraph add the word “None” and move Funding Priority and Funding Preference to page 67450, Column 3, Section “I. Funding Opportunity Description” after Research Objectives.

Dated: December 19, 2003.
Edward Schultz,
Acting Director, Procurement and Grants Office, Centers for Disease Control and Prevention.

[FR Doc. 03-31839 Filed 12-29-03; 8:45 am]

BILLING CODE 4163-18-P